DEPARTMENT OF HEALTH AND HUMAN SERVICES

Health Resources and Services Administration

Single-Case Deviation From Competition Requirements: Maternal and Child Health (MCH) Bureau's Research Network on Pregnancy-Related Care Program

AGENCY: Health Resources and Services Administration (HRSA), Department of Health and Human Services (HHS).

ACTION: Notice.

SUMMARY: HRSA will be issuing a non-competitive program expansion supplement for the MCH Research Network on Pregnancy-related Care program. Approximately $200,000 in supplemental funding will be made available in the form of a cooperative agreement to the American College of Obstetricians and Gynecologists (ACOG), Washington, DC, Grant Number UA6MC19010, during the budget period of September 9, 2013, through August 31, 2014.

The MCH Research Network on Pregnancy-related Care program (UA6MC 19010), CFDA No. 93.110, is authorized by Title V, Social Security Act, Section 501(a)(2); as amended (42 U.S.C. 701).

The MCH Research Network on Pregnancy-related Care (Network) is the only existing national network of practicing obstetrician-gynecologists who have been recruited to participate in survey studies to examine physicians' clinical practice patterns, knowledge base, opinions, and educational needs with respect to maternal health, including pregnancy-related health and women's health across the lifespan. Now in its third year of a 5-year project period, the Network has successfully conducted numerous studies and boasts a very robust dissemination of critical information on its research findings including nearly 30 peer-reviewed publications since 2010. Types of studies conducted by the Network include the following:

• Core longitudinal studies that track physician knowledge and practice over time (e.g., Preterm birth, Diabetes during pregnancy, Obesity, Nausea and vomiting of pregnancy);

• Studies based on newly or soon-to-be published ACOG clinical practice guidelines (e.g., Thyroid disorders during pregnancy, Down syndrome);

• Studies that assess the maternal-child health workforce (e.g., Racial and gender differences in residents' perceptions of mentoring, Physician gender and practice satisfaction); and

• Topical studies to address the needs in the field (e.g., Oral health during pregnancy, Influenza vaccination during pregnancy).

SUPPLEMENTARY INFORMATION: Intended Recipients of the Award: The grantee of record (listed below).

Amount of the Non-Competitive Award: Up to $200,000.

CFDA Number: 93.110.

Current Project Period: 09/01/2010-08/31/2015.

Period of Supplemental Funding: 9/1/2013-8/31/2014.

Authority: Title V, Social Security Act, Section 501(a)(2); as amended (42 U.S.C. 701).

Justification: HRSA is providing supplemental funding for the Network award for the purpose of enhancing the existing Network to maximize its full potential to conduct multi-site research on critical issues affecting pregnancy-related and maternal health across the lifespan. Currently in year 3 of a 5-year project period, the Network is funded at $300,000 total cost per year. A $200,000 program expansion supplement will increase the capacity of network-affiliated practitioners and other affiliates to generate, refine, and implement original research studies involving primary data collection and subject recruitment across a multi-site research network.

Specifically, this supplemental funding will catalyze the development of research and data coordination capacities for the Network and expand the Network's purpose from conducting provider surveys to coordinating office-based research using the existing network infrastructure. This program expansion is a tremendous opportunity to improve the quality of care and reduce costs in the emerging area of outpatient obstetrics research. Furthermore, an office-based practice research network will help accelerate the translation of research to practice.

FOR FURTHER INFORMATION CONTACT: Jessica DiBari, MHS, Division of Research, Maternal and Child Health Bureau, Health Resources and Services Administration, 5600 Fishers Lane, Room 18A-55, Rockville, Maryland 20857; jdibari@hrsa.gov.

Grantee/organization name | Grant number | State | FY 2013 Authorized funding level | FY 2013 Estimated supplemental funding
The American College of Obstetricians and Gynecologists | UA6MC19010 | DC | $300,000 | $200,000

Dated: August 26, 2013.
Mary K. Wakefield,
Administrator.

[FR Doc. 2013-21342 Filed 8-30-13; 8:45 am]

BILLING CODE 4165-15-P